DEPARTMENT OF JUSTICE

[OMB Number 1121-0360]

Agency Information Collection Activities; Proposed eCollection eComments Requested; Generic Clearance for Cognitive, Pilot, and Field Studies for Office of Juvenile Justice and Delinquency Prevention Data Collection Activities

AGENCY: Office of Justice Programs, Department of Justice.

ACTION: 30-Day notice of information collection under review.

SUMMARY: The Department of Justice (DOJ), Office of Justice Programs, Office of Juvenile Justice and Delinquency Prevention (OJJDP) will be submitting the following information collection request to the Office of Management and Budget (OMB) for review and approval in accordance with the Paperwork Reduction Act of 1995. The proposed information collection is published to obtain comments from the public and affected agencies.

DATES: Comments are encouraged and will be accepted for 30 days until November 25, 2020.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: This process is conducted in accordance with 5 CFR 1320.10. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this Information Collection

1. Type of Information Collection: Extension.

2. The Title of the Form/Collection: Generic clearance for cognitive, pilot, and field studies for Office of Juvenile Justice and Delinquency Prevention data collection activities.

3. The agency form number, if any, and the applicable component of the Department sponsoring the collection: The form number is CJ-14, Office of Juvenile Justice and Delinquency Prevention, United States Department of Justice.

4. Affected public who will be asked or required to respond, as well as a brief abstract: The proposed information collection activity will enable OJJDP to develop, test, and improve its survey and data collection instruments and methodologies. OJJDP will engage in cognitive, pilot, and field test activities to inform its data collection efforts and to minimize respondent burden associated with each new or modified data collection. OJJDP anticipates using a variety of procedures including, but not limited to, tests of various types of survey and data collection operations, focus groups, cognitive laboratory activities, pilot testing, field testing, exploratory interviews, experiments with questionnaire design, and usability testing of electronic data collection instruments.

Following standard Office of Management and Budget (OMB) requirements, OJJDP will submit an individual request to OMB for every group of data collection activities undertaken under this generic clearance. OJJDP will provide OMB with a copy of the individual instruments or questionnaires (if one is used), as well as other materials describing the project. Currently, OJJDP anticipates the need to conduct testing and development work that will include the collection of information from law enforcement agencies, child welfare agencies, courts, probation supervision offices, and the state agencies, local governments, non-profit organizations, and for-profit organizations that operate juvenile residential placement facilities.

5. An estimate of the total number of respondents and the amount of time estimated for an average respondent to respond: It is estimated that approximately 2,500 respondents will be involved in the anticipated cognitive, pilot, and field testing work over the 3-year clearance period. Specific estimates for the average response time are not known for development work covered under a generic clearance. Estimates of overall burden are included in item 6 below.

6. An estimate of the total public burden (in hours) associated with the collection: The estimated public burden for identified and future projects covered under this generic clearance over the 3-year clearance period is approximately 5,000 hours.

If additional information is required contact: Melody Braswell, Department Clearance Officer, United States Department of Justice, Justice Management Division, Policy and Planning Staff, Two Constitution Square, 145 N Street NE, 3E.405A, Washington, DC 20530.

Dated: October 20, 2020.
Melody Braswell,
Department Clearance Officer for PRA, U.S. Department of Justice.

[FR Doc. 2020-23565 Filed 10-23-20; 8:45 am]

BILLING CODE 4410-18-P